DEPARTMENT OF COMMERCE

International Trade Administration

Clean Energy Trade Mission, China and India, January 8-17, 2008

AGENCY: International Trade Administration, Department of Commerce.

ACTION: Notice.

SUMMARY: The United States Department of Commerce is organizing a Clean Energy Trade Mission to China and India, January 8-17, 2008. The trade mission will target a broad range of clean energy technologies such as renewable energy, biofuels, energy efficiency, clean coal, and distributed generation, and be led by Assistant Secretary of Commerce David Bohigian.

ITA seeks to match participating U.S. companies with prescreened partners, agents, distributors, representatives, licensees or retailers in each of these important sectors. In addition to one-on-one business meetings, the agenda will also include meetings with national and local government officials, networking opportunities, country briefings, and site visits.

This mission builds on the first U.S. Clean Energy Technologies Trade Mission, which took place in April 2007 and brought 17 U.S. companies to China and India. The trade mission takes place within the context of both the President's new international framework on climate change, energy security, and economic growth involving the 15 major economies (the Global-15), as well as the Asia-Pacific Partnership on Clean Development and Climate (APP).

On May 31, 2007, President Bush announced an effort to develop and implement the Global-15 framework by 2012, which would complement the current United Nations Framework Convention on Climate Change and advance the APP. The APP is a public-private partnership in which member countries work together to facilitate commercial deployment of technologies that reduce greenhouse gas emissions and enhance energy security.

DATES: Recruitment will begin immediately and will close on November 5, 2007. The Trade Mission will take place January 8-17, 2008.

FOR FURTHER INFORMATION CONTACT: Justin Rathke, U.S. Department of Commerce, E-mail: cleanenergymission@mail.doc.gov, Telephone: 202-482-7916, Mission Web site: http://www.export.gov/cleanenergymission.

SUPPLEMENTARY INFORMATION:

Commercial Setting

China

To decrease its dependence on traditional fossil energy, China seeks to lower its share of fossil fuel consumption in its energy mix and increase its use of alternative energy sources over the next five years. Recently, China unveiled an energy strategy as part of its Eleventh Five-Year Plan (2006-2010). The plan aims to double the country's renewable energy supply by 2020.

In another promising move, the Chinese Government passed the Law on Renewable Energy, which seeks to promote cleaner energy technologies and seeks to increase renewable energy to 10 percent of the country's electricity consumption by 2020 (up from roughly 3 percent in 2003). This law is partly responsible for the increase in new renewable energy projects, particularly in the areas of wind, solar, and biomass. Achieving the targets for wind energy alone (30 GW from 1.2 GW in 2005) will require $21-28 billion in investment. China invested $7 billion in renewable energy capacity in 2005.

More recently, China announced its first national plan to address climate change. The plan calls for a 20 percent reduction in energy consumption per unit of GDP by 2010 while increasing the use of renewable energy. The Chinese Government specified wind, nuclear and hydropower, as well as more energy-efficient coal-fired plants, as the technology approaches that it would use to achieve the reductions.

All these initiatives underscore China's intention to deploy cleaner and more efficient technologies. U.S. technology providers with accurate market information and a sound business strategy have the potential to take advantage of the growing Chinese clean energy market.

Beijing: With a population of over 15 million, Beijing is China's largest city. Its Gross Domestic Product (GDP) was $84 billion in 2005, an increase of 11.1% from the previous year. As the national capital, Beijing offers unparalleled access to Chinese policymakers. Since China's energy sector is regulated by the central government, interaction with these officials can be critical to a companies' success.

There is also a strong local market for clean energy technologies in Beijing, due to its size, its political and economic importance, and the poor environmental conditions caused by development. Beijing is unique in China in that it has provincial status, which enables its municipal government to approve independent foreign investment projects up to a value of $30 million. This has positioned Beijing as an attractive location for foreign investment in China. The selection of the city as host of the 2008 Summer Olympic Games has spurred substantial government investment in projects that improve environmental quality.

To facilitate trade and investment in clean energy technologies and help create commercial opportunities for mission participants, ITA is working with the Chinese Government to hold the first U.S.-China Clean Energy Technologies Industry Forum (CETIF). The creation of a U.S.-China CETIF would establish an annual forum designed to establish dialogue between U.S. and Chinese industry and appropriate government representatives on a variety of energy and environmental trade, technology, and policy issues. This event is expected to take place on Wednesday, January 9, 2008, and is open to all mission participants.

Guangzhou: Guangzhou is the economic center of the Pearl River Delta and is the heart of one of China's leading commercial and manufacturing regions. With an estimated population of 12 million, Guangzhou is the third most populous metropolitan area in China. Its proximity to Hong Kong has provided the region with an influx of investment and fostered a Western business culture that has made Guangdong province one of the most developed provinces in the Pearl River Delta. In 2005, Guangdong's GDP rose to $278.9 billion, ranking first in the country and accounting for about 10 percent of the national GDP. By the end of 2006, Guangdong had received $177.37 billion in total stock of foreign direct investment (FDI), representing one fourth of the national total, and accounted for 40 percent of all international trade between China and other countries.

The Pearl River Delta has experienced serious environmental problems due to its rapid industrialization and heavy manufacturing base. The Guangdong Government has budgeted 3 percent of its GDP for overall environmental spending during the Eleventh Five-Year Plan, more than $8 billion.

Strong commercial prospects for Guangdong include energy efficiency and cleaner production technologies, combined heat and power, wind energy, solar energy, hydropower, biogas, and waste-to-energy. The Guangdong Government plans to spend $726 million between 2005 and 2010 and $1.93 billion between 2010 and 2020 on wind power projects, and China's renewable energy law contains incentives to make wind power more cost competitive with coal-fired generation. The city of Guangzhou plans to treat 90 percent of its solid waste using waste-to-energy plants.

Hong Kong: Hong Kong is affected by pollution from the mainland and particularly from Guangdong Province and the Pearl River Delta. The Pollution Prevention and Energy Efficiency (P2E2) environmental financing program is designed to address this issue and to develop business opportunities for U.S. companies. Through financial support from the Asian Development Bank, International Finance Corporation, and U.S. Export-Import Bank, the P2E2 program encourages Hong Kong-based Environment and Energy Service Companies (EESCOs) to develop pollution prevention and energy efficiency projects throughout mainland China and other developing Asian countries. These projects focus on correcting production and energy consumption inefficiencies in existing manufacturing plants and other facilities, thereby creating cost savings while addressing the region's growing pollution problem. The technology upgrades required to complete these projects provide significant opportunities for American technology vendors.

India

India is experiencing dramatic economic growth and a rapidly increasing demand for energy. Currently the world's sixth-largest energy consumer, India will be the third largest by 2030. Both India's cities and villages lack adequate energy supply, so there is need to add on-grid and off-grid power generation. The Government of India has specified renewable energy in its development plans and has developed numerous government incentives. The federal government has set a goal of electrifying 18,000 remote villages and meeting 10 percent of its energy demand with clean energy by 2012. The Indian market for clean energy is estimated at $600 million with an annual growth rate of 25 percent. The current 8,000 MW of installed capacity is expected to reach 20,000 MW by 2012.

The clean energy market in India offers strong business prospects to U.S. companies, particularly in solar, biomass, gasification, wind, hydro, and solid and industrial waste-to-energy. The market for energy efficiency is estimated to be about $2 billion, concentrated especially in energy-intensive industries such as cement, aluminum, fertilizers, pulp and paper, petrochemicals, and steel.

Kolkata: With a metropolitan population of 13 million, Kolkata (formerly Calcutta) is the capital of the state of West Bengal. Kolkata is the main commercial and financial hub of eastern India, which is home to a population of 280 million people living in 12 states and contributing 22 percent of India's annual net domestic product. The Communist party-led state government has in recent years adopted more investor-friendly policies, which has led to regional growth, consistently among the highest in all of India. Over 100 U.S. firms have a presence in Kolkata in sectors such as IT, mining, chemicals and petrochemicals, food processing, financial services, consumer goods, and engineering. Significant opportunities are emerging in infrastructure development projects, including power generation.

West Bengal is implementing one of the largest clean energy programs in India, covering a broad spectrum of energy technologies such as solar thermal, solar photovoltaic, wind turbines, micro-turbines, biogas plants, biomass gasifiers, small hydro and tidal power. The total current generation from renewable sources is about 62 MW, and another 100 MW in renewable power capacity is being added through $183 million in private investment in the next two years. Much more private investment is being sought to meet the State's rapidly growing energy demands.

Bangalore: With a population of 7 million, Bangalore is the capital of the State of Karnataka and is “the Silicon Valley of India.” Also known as the Knowledge Capital and Biotechnology Capital, the city is India's high-profile Information Technology (IT) center. In addition to its thriving IT and biotech sectors, Bangalore is the hub of India's aerospace, electronics, machine tools, automation and food processing industries. These growing industrial and commercial entities need access to reliable energy and the State of Karnataka is known for its clean energy initiatives.

The state agency in this sector, the Karnataka Renewable Energy Development Ltd. (KREDL), is widely known as one of the most progressive in India and has many programs to promote clean energy. Karnataka currently has 1,600 MW of installed renewable energy capacity. This is expected to reach 2,500 MW by 2012. The wind sector is witnessing very high growth rates, and the State has plans to increase installed wind capacity (especially in and around the Chitradurga area of the State) at the rate of 200 MW per year. Biomass cogeneration, solar, and small hydro are also areas of high growth.

Mission Goals: The Trade Mission will facilitate market entry or increased sales into these significant markets for U.S. clean energy technologies and services firms, and to assist mission participants in gaining first-hand market information and access to key government officials and potential business partners.

Mission Scenario: In China and India, the International Trade Administration will:

• Provide a market briefing highlighting opportunities in the clean energy technologies sectors.

• Schedule one-on-one appointments with potential business partners for each participant.

• Provide a venue for the one-on-one appointments and provide interpreters as needed.

• Provide networking opportunities with the private and public sectors.

• Organize relevant site visits.

Proposed Mission Timetable:

Tuesday, January 8, 2008. Arrive in Beijing, Embassy Briefing, Welcome Reception.

Wednesday, January 9, 2008. U.S.-China Clean Energy Technologies Industry Forum, One-on-One Business Meetings, Networking Reception.

Thursday, January 10, 2008. Meeting with China's National Development and Reform Commission, Site Visit, One-on-One Business Meetings (Optional), Depart Beijing, Arrive Guangzhou.

Friday, January 11, 2008. Consulate Briefing, Local Government Meetings, One-on-One Business Meetings, Depart Guangzhou, Arrive Hong Kong.

Saturday, January 12, 2008. Clean Energy Finance Seminars and Networking Events in Hong Kong.

Sunday, January 13, 2008. Depart Hong Kong, Arrive Kolkata.

Monday, January 14, 2008. Consulate Briefing, Local Clean Energy Market Briefing, One-on-One Business Meetings, Networking Reception.

Tuesday, January 15, 2008.

Depart Kolkata,

Arrive Bangalore,

Local Clean Energy Market Briefing,

Consulate Briefing,

Dinner or Reception.

Wednesday, January 17, 2008.

Government/Business Meetings,

One-on-One Business Meetings,

Dinner or Reception.

Thursday, January 18, 2008.

Depart Bangalore.

(It is possible for companies to participate in one or both countries of this trade mission.)

Criteria for Participation:

• Relevance of the company's business line to the mission scope and goals;

• Potential for business in the selected markets;

• Timeliness of the company's completed application, participation agreement, and payment of the mission participation fee;

• Provision of adequate information on the company's products and/or services and communication of the company's primary objectives to facilitate appropriate matching with potential business partners;

• Certification that the company's products and/or services are manufactured or produced in the United States or, if manufactured/produced outside of the United States, the products/services must be marketed under the name of a U.S. firm and have U.S. content representing at least 51 percent of the value of the finished goods or services; and

• Diversity of sectors represented.

Any partisan political activities of an applicant, including political contributions, will be entirely irrelevant to the selection process.

The mission will be promoted through the following venues: ITA's Export Assistance Centers, the Energy Team, the Asia Pacific Team, the Africa, Near East, and South Asia Team, Global Trade Programs; the Trade Events List http://www.export.gov; industry newsletters; the Federal Register; the Asia-Pacific Partnership for Clean Development and Climate; relevant trade publications; relevant trade associations; past Commerce trade mission participants; various in-house and purchased industry lists; the Commerce Department trade missions calendar: http://www.ita.doc.gov/doctm/tmcal.html; and the Web: http://www.export.gov/cleanenergymission.

Recruitment will begin immediately and will close on November 5, 2007. Qualified U.S companies/applicants will be selected on a rolling basis. The trade mission participation fee will be U.S.$3,500 per company. (If a company would like to participate in just the China or India portion of the trade mission, the participation fee will be $1,750) There will be an additional fee of $750 per country for each additional participant a company sends. The participation fee does not include the cost of travel, lodging, some ground transportation, or some meals. Participation is open to 25 qualified U.S. companies. Invited companies must submit the trade mission participation fee and completed participation agreement within two weeks of receipt of their invitation in order to secure their place in the mission. After that time other companies may be invited to fill that spot. Applications received after the closing date will be considered only if space and scheduling constraints permit.

Dated: September 12, 2007.
Stephen Jacobs,
Deputy Assistant Secretary of Commerce for Market Access & Compliance.

[FR Doc. 07-4681 Filed 9-21-07; 8:45 am]

BILLING CODE 3510-DA-P